DEPARTMENT OF ENERGY

Federal Energy Regulatory Commission

Combined Notice of Filings #2

Take notice that the Commission received the following electric corporate filings:

Docket Numbers: EC16-19-000.

Applicants: Calpine Granite Holdings, LLC, Granite Ridge Energy, LLC.

Description: Calpine Granite Holdings, LLC et al submits the workpapers of Julie Solomon re the application for approval under Section 203 of the Federal Power Act etc.

Filed Date: 10/28/15.

Accession Number: 20151028-0056.

Comments Due: 5 p.m. ET 12/28/15.

Docket Numbers: EC16-22-000.

Applicants: Roosevelt Wind Project, LLC, Milo Wind Project, LLC.

Description: Application for Authorization for Disposition of Jurisdictional Facilities and Requests for Confidential Treatment and Expedited Action of Roosevelt Wind Project, LLC, and Milo Wind Project, LLC.

Filed Date: 10/30/15.

Accession Number: 20151030-5502.

Comments Due: 5 p.m. ET 11/20/15.

Docket Numbers: EC16-23-000.

Applicants: Prairie Rose Wind, LLC, Prairie Rose Transmission, LLC.

Description: Application of Prairie Rose Wind, LLC, et al. for Authorization Under Section 203 of the Federal Power Act, Request for Expedited Consideration and Confidential Treatment.

Filed Date: 10/30/15.

Accession Number: 20151030-5519.

Comments Due: 5 p.m. ET 11/20/15.

Docket Numbers: EC16-24-000.

Applicants: Chisholm View Wind Project, LLC.

Description: Application for Authorization Under Section 203 of the Federal Power Act, Request for Expedited Consideration and Confidential Treatment of Chisholm View Wind Project, LLC.

Filed Date: 10/30/15.

Accession Number: 20151030-5520.

Comments Due: 5 p.m. ET 11/20/15.

Take notice that the Commission received the following electric rate filings:

Docket Numbers: ER13-193-006.

Applicants: ISO New England Inc.

Description: Compliance filing: Amendments to ISO-NE Tariff and TOA in Compliance with October 2, 2015 Order to be effective 5/18/2015.

Filed Date: 11/2/15.

Accession Number: 20151102-5124.

Comments Due: 5 p.m. ET 11/23/15.

Docket Numbers: ER13-196-005.

Applicants: ISO New England Inc., Eversource Energy Service Company (as agent).

Description: Compliance filing: Amendments to the TOA in Compliance with October 2, 2015 Order to be effective 5/18/2015.

Filed Date: 11/2/15.

Accession Number: 20151102-5126.

Comments Due: 5 p.m. ET 11/23/15.

Docket Numbers: ER13-1908-001.

Applicants: Virginia Electric and Power Company.

Description: Notice of material change in circumstances of Virginia Electric and Power Company and its marketing affiliates.

Filed Date: 10/30/15.

Accession Number: 20151030-5507.

Comments Due: 5 p.m. ET 11/20/15.

Docket Numbers: ER15-1825-002.

Applicants: California Independent System Operator Corporation.

Description: Compliance filing: 2015-11-02_RSI_Phase1A_Compliance Filing to be effective 1/10/2016.

Filed Date: 11/2/15.

Accession Number: 20151102-5139.

Comments Due: 5 p.m. ET 11/23/15.

Docket Numbers: ER16-229-000.

Applicants: Southwest Power Pool, Inc.

Description: § 205(d) Rate Filing: 2646R1 Kansas Municipal Energy Agency NITSA NOA to be effective 10/1/2015.

Filed Date: 11/2/15.

Accession Number: 20151102-5108.

Comments Due: 5 p.m. ET 11/23/15.

Docket Numbers: ER16-230-000.

Applicants: Southwest Power Pool, Inc.

Description: § 205(d) Rate Filing: 1067R5 ETEC NITSA; Cancellation of 1065R4 Tex-La NITA and 1066R7 NTEC NITSA to be effective 10/1/2015.

Filed Date: 11/2/15.

Accession Number: 20151102-5109.

Comments Due: 5 p.m. ET 11/23/15.

Docket Numbers: ER16-231-000.

Applicants: Southwest Power Pool, Inc.

Description: § 205(d) Rate Filing: 3082 Minnkota Power Cooperative, Inc. NITSA and NOA to be effective 10/1/2015.

Filed Date: 11/2/15.

Accession Number: 20151102-5123.

Comments Due: 5 p.m. ET 11/23/15.

Docket Numbers: ER16-232-000.

Applicants: Southwest Power Pool, Inc.

Description: § 205(d) Rate Filing: 3124 Basin Electric Power Cooperative NITSA and NOA to be effective 10/1/2015.

Filed Date: 11/2/15.

Accession Number: 20151102-5166.

Comments Due: 5 p.m. ET 11/23/15.

Docket Numbers: ER16-233-000.

Applicants: Illinois Power Resources Generating, LLC.

Description: § 205(d) Rate Filing: Notice of Succession for Reactive Service Rate Schedule to be effective 1/1/2016.

Filed Date: 11/2/15.

Accession Number: 20151102-5167.

Comments Due: 5 p.m. ET 11/23/15.

Take notice that the Commission received the following land acquisition reports:

Docket Numbers: LA15-3-000.

Applicants: Adelanto Solar, LLC, Adelanto Solar II, LLC, Ashtabula Wind, LLC, Ashtabula Wind II, LLC, Ashtabula Wind III, LLC, Backbone Mountain Windpower, LLC, Baldwin Wind, LLC, Bayswater Peaking Facility, LLC, Blackwell Wind, LLC, Breckinridge Wind Project, LLC, Butler Ridge Wind Energy Center, LLC, Cimarron Wind Energy, LLC, Crystal Lake Wind, LLC, Crystal Lake Wind II, LLC, Crystal Lake Wind III, LLC, Day County Wind, LLC, Desert Sunlight 250, LLC, Desert Sunlight 300, LLC, Diablo Winds, LLC, Elk City Wind, LLC, Elk City II Wind, LLC, Energy Storage Holdings, LLC, Ensign Wind, LLC, ESI Vansycle Partners, L.P., Florida Power & Light Company, FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL Energy Marcus Hook, L.P., FPL Energy MH50, L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, Garden Wind, LLC, Genesis Solar, LLC, Golden West Power Partners, LLC, Gray County Wind Energy, LLC, Green Mountain Storage, LLC, Hatch Solar Energy Center I, LLC, Hawkeye Power Partners, LLC, High Majestic Wind Energy Center, LLC, High Majestic Wind II, LLC, High Winds, LLC, Jamaica Bay Peaking Facility, LLC, Lake Benton Power Partners II, LLC, Langdon Wind, LLC, Limon Wind, LLC, Limon Wind II, LLC, Limon Wind III, LLC, Logan Wind Energy LLC, Mammoth Plains Wind Project, LLC, Mantua Creek Solar, LLC, McCoy Solar, LLC, Meyersdale Storage, LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Point Beach, LLC, NextEra Energy Power Marketing, LLC, NextEra Energy Seabrook, LLC, NextEra Energy Services Massachusetts, LLC, Northeast Energy Associates, LP, North Jersey Energy Associates, A Limited Partnership, North Sky River Energy, LLC, Northern Colorado Wind Energy, LLC, Osceola Windpower, LLC, Osceola Windpower II, LLC, Palo Duro Wind Energy, LLC, Palo Duro Wind Interconnection Services, LLC, Paradise Solar Urban Renewal, L.L.C., Peetz Table Wind Energy, LLC, Pennsylvania Windfarms, LLC, Perrin Ranch Wind, LLC, Pheasant Run Wind, LLC, Red Mesa Wind, LLC, Seiling Wind, LLC, Seiling Wind II, LLC, Seiling Wind Interconnection Services, LLC, Silver State Solar Power South, LLC, Shafter Solar, LLC, Sky River LLC, Sky River Asset Holdings, LLC, Somerset Windpower, LLC, Steele Flats Wind Project, LLC, Story Wind, LLC, Tuscola Bay Wind, LLC, Tuscola Wind II, LLC, Vasco Winds, LLC, Waymart Wind Farm, L.P., Wessington Wind Energy Center, LLC, White Oak Energy LLC, Wilton Wind II, LLC, Windpower Partners 1993, LLC.

Description: Quarterly Land Acquisition Report of the NextEra Energy Companies.

Filed Date: 10/30/15.

Accession Number: 20151030-5508.

Comments Due: 5 p.m. ET 11/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 2, 2015.
Nathaniel J. Davis, Sr.,
Deputy Secretary.

[FR Doc. 2015-28396 Filed 11-6-15; 8:45 am]

BILLING CODE 6717-01-P